DEPARTMENT OF HEALTH AND HUMAN SERVICES

DEPARTMENT OF AGRICULTURE

Announcement of Final Meeting of 2005 Dietary Guidelines Advisory Committee and Solicitation of Written Comments; Correction

AGENCIES: U.S. Department of Health and Human Services (HHS), Office of Public Health and Science; and U.S. Department of Agriculture (USDA), Food, Nutrition and Consumer Services and Research, Education and Economics.

ACTION: Notice; correction.

SUMMARY: The U.S. Department of Health and Human Services and the U.S. Department of Agriculture published a document in the Federal Register of April 26, 2004 concerning the May 26 and 27, 2004 meeting of the Dietary Guidelines Advisory Committee. The original meeting location noted in the document has changed.

Correction:

In the Federal Register of April 26, 2004, in FR Doc. Vol. 69, No. 80, on page 22519 in the third column, correct the ADDRESSES caption to read:

ADDRESSES: The meeting will be held at the Holiday Inn Bethesda, located at 8120 Wisconsin Ave., Bethesda, Maryland in the Versailles Ballroom. The Holiday Inn Bethesda is three blocks south of the National Institutes of Health and the Bethesda Naval Hospital. The hotel is located between the Bethesda Metro and the Medical Center stops. Complimentary shuttle service is available to National Institutes of Health Campus Bldg. 10, Bethesda Naval Medical Center, and nearby Medical Center Metro Station; and area airports. Paid parking is available.

FOR FURTHER INFORMATION CONTACT: Karyl Thomas Rattay (phone 202-690-7102), HHS Office of Disease Prevention and Health Promotion, Office of Public Health and Science, Room 738-G, 200 Independence Ave., SW., Washington, DC 20201. Additional information is available on the Internet at http://www.health.gov/dietaryguidelines.

Dated: May 6, 2004.
Kathryn Y. McMurry,
Designated Federal Officer, Dietary Guidelines Advisory Committee, Office of Disease Prevention and Health Promotion, U.S. Department of Health and Human Services.

[FR Doc. 04-10803 Filed 5-11-04; 8:45 am]

BILLING CODE 4150-32-P